POSTAL SERVICE

39 CFR Part 111

Domestic Competitive Products Pricing and Mailing Standards Changes

AGENCY: Postal Service™.

ACTION: Final rule.

SUMMARY: The Postal Service is amending Mailing Standards of the United States Postal Service, Domestic Mail Manual (DMM®), to reflect changes to prices and mailing standards for competitive products.

DATES: Effective Date: January 9, 2022.

FOR FURTHER INFORMATION CONTACT: Steven Jarboe at (202) 268-7690, Margaret Pepe (202) 268-3078, or Garry Rodriguez at (202) 268-7281.

SUPPLEMENTARY INFORMATION: This final rule describes new prices and product features for competitive products, by class of mail, established by the Governors of the United States Postal Service®. New prices are available under Docket Number CP2022-22 on the Postal Regulatory Commission PRC website at http://www.prc.gov, and on the Postal Explorer® website at http://pe.usps.com.

The Postal Service will revise Mailing Standards of the United States Postal Service, Domestic Mail Manual (DMM), to reflect changes to prices and mailing standards for the following competitive products:

• Priority Mail Express®.

• Priority Mail®.

• First-Class Package Service®.

• Parcel Select®.

• USPS Retail Ground®.

• Extra Services.

• Return Services.

• Mailer Services.

• Recipient Services.

• Other.

Competitive product prices and changes are identified by product as follows:

Priority Mail Express

Prices

Overall, Priority Mail Express prices will increase 3.1 percent. Priority Mail Express will continue to offer zoned and Flat Rate Retail, Commercial Base®, and Commercial Plus® pricing.

Retail prices will increase an average of 2.9 percent. The Flat Rate Envelope price will increase to $26.95, the Legal Flat Rate Envelope will increase to $27.10, and the Padded Flat Rate Envelope will increase to $27.50.

Commercial prices (Commercial Base and Commercial Plus) will increase an average of 4.3 percent.

Dimensional Weight Pricing Dimension Standards

The Postal Service is implementing a standard under dimensional weight pricing for commercial Priority Mail Express pieces to require Shipping Services file manifests or other approved electronic documentation include the accurate dimensions (length, width, height) of all pieces that exceed 1 cubic foot. This standard will assist the Postal Service with compliance in pricing. Shipping Services file manifests or other approved electronic documentation not meeting the requirement to include accurate dimensions will be assessed a dimension noncompliance fee.

Priority Mail

Prices

Overall, Priority Mail prices will increase 3.1 percent. Priority Mail will continue to offer zoned and Flat Rate Retail, Commercial Base, and Commercial Plus pricing.

Retail prices will increase an average of 4.5 percent. The Flat Rate Envelope price will increase to $8.95, the Legal Flat Rate Envelope will increase to $9.25, and the Padded Flat Rate Envelope will increase to $9.65. The Small Flat Rate Box price will increase to $9.45 and the Medium Flat Rate Boxes will increase to $16.10. The Large Flat Rate Box will decrease to $21.50 and the APO/FPO/DPO Large Flat Rate Box will decrease to $20.00.

Commercial prices (Commercial Base and Commercial Plus) will increase an average of 1.2 percent.

Dimensional Weight Pricing Dimension Standards

The Postal Service is implementing a standard under dimensional weight pricing for commercial Priority Mail pieces to require Shipping Services file manifests or other approved electronic documentation include the accurate dimensions (length, width, height) of all pieces that exceed 1 cubic foot. This standard will assist the Postal Service with compliance in pricing. Shipping Services file manifests or other approved electronic documentation not meeting the requirement to include accurate dimensions will be assessed a dimension noncompliance fee.

First-Class Package Service

Prices

Overall, First-Class Package Service prices will increase 8.8 percent.

Overall, First-Class Package Service—Retail prices will increase 9.0 percent.

Overall, First-Class Package Service—Commercial prices will increase 8.8 percent.

Parcel Select

Prices

The prices for Parcel Select Destination Entry will decrease an average of 11.1 percent. Parcel Select Ground prices will decrease an average of 12.1 percent. The prices for Parcel Select Lightweight® will increase an average of 7.4 percent.

Dimensional Weight Pricing Dimension Standards

The Postal Service is implementing a standard under dimensional weight pricing for Parcel Select Destination Entry and Parcel Select Ground pieces to require Shipping Services file manifests or other approved electronic documentation include the accurate dimensions (length, width, height) of all pieces that exceed 1 cubic foot. This standard will assist the Postal Service with compliance in pricing. Shipping Services file manifests or other approved electronic documentation not meeting the requirement to include accurate dimensions will be assessed a dimension noncompliance fee.

Optional SCF Preparation for Parcel Select Destination Entry and Parcel Select Lightweight Machinable Parcels

The Postal Service will implement an optional Sectional Center Facility (SCF) preparation level that will allow mailers to presort and dropship Parcel Select Destination Entry machinable parcels to an eligible destination SCF (DSCF) under Labeling List L051. The new SCF preparation level will follow the current Parcel Select Destination Entry standards for requirements, mail preparation, entry, and pricing.

The Postal will also implement an optional SCF preparation level that will allow mailers to presort and dropship Parcel Select Lightweight (PSLW) machinable parcels to an eligible DSCF under labeling List L051. The new SCF preparation will follow the current PSLW standards for requirements, mail preparation, entry, and pricing.

As a result of the new SCF preparation level for PSLW machinable parcels, the Postal Service will delete Customer Support Ruling (CSR) PS-348, Parcel Select Lightweight Machinable Parcel Optional SCF Presort and Entry.

USPS Connect Local

USPS Connect Local™ is a new Parcel Select price category offering, designed to enhance access to our delivery network at the local level to deliver items the same-day or the next-day via a local Post Office to every address served by that delivery unit. Participation in the USPS Connect Local program requires agreement to program terms. Customers must contact a USPS Representative for details.

USPS Connect Local will offer three USPS-produced Flat Rate container prices (2 bags and a box), variable weight prices from 1 pound through 25 pounds that will not be subject to Dimensional (DIM) pricing, and an oversized (108 inches-130 inches) price.

USPS Click-N-Ship® will be the required payment method, providing both the shipping label and postage payment.

Certain additional mailing services such as Insurance and Signature Confirmation™ extra services and Pickup on Demand® and USPS Tracking Plus® will be available for USPS Connect Local.

USPS Connect Local will also offer Sunday delivery where available for a fee and has an automatic Sunday fee refund feature through USPS Click-N-Ship if the item is not delivered on Sunday or Sunday delivery was not attempted.

USPS Retail Ground

Overall, USPS Retail Ground prices will decrease an average of 7.4 percent.

USPS Retail Ground Prices Zones 1 Through 4

The Postal Service is eliminating the restriction that states USPS Retail Ground prices in Zones 1 through 4 are only available to items that require surface transportation. USPS Retail Ground prices will now be available for all eligible mailable items in Zones 1 through 9.

Extra Services

Adult Signature Service

Adult Signature Required and Adult Signature Restricted Delivery service prices are increasing 23.2 and 22.4 percent respectively. The price for Adult Signature Required will increase to $8.50 and Adult Signature Restricted Delivery will increase to $8.75.

Return Services

Parcel Return Service

Overall, Parcel Return Service prices will increase an average of 4.9 percent.

Return Sectional Center Facility (RSCF) prices will increase an average of 4.9 percent and Return Delivery Unit (RDU) prices will increase an average of 4.9 percent.

Mailer Services

Pickup on Demand Service

The Pickup on Demand® service fee will remain at $25.00.

USPS Tracking Plus Service

Overall, USPS Premium Tracking Service™ prices will decrease 51.5 percent.

USPS Tracking Plus Service Expansion of Products

The Postal Service is expanding the domestic product offering for USPS Tracking Plus™ to include Library Mail, Media Mail®, and Bound Printed Matter. The expansion will also include First-Class Mail® (Letters and Flats) with the purchase of a trackable extra service, USPS Marketing Mail® and Nonprofit USPS Marketing Mail parcels with the purchase of USPS Tracking®, and Nonprofit USPS Marketing Mail parcels with a trackable extra service.

The Postal Service is also expanding USPS Tracking Plus service to include some International outbound products. For further information see the International Mailing Services: Mailing Services Product and Price Changes Federal Register notice.

Recipient Services

Post Office Box Service

The competitive Post Office Box™ service prices will increase an average of 18.2 percent within the updated price ranges.

Premium Forwarding Service

Premium Forwarding Service® (PFS®) prices will increase between 4.8 and 5.3 percent depending on the specific price element. The enrollment fee paid at the retail counter for PFS-Residential will increase to $23.90 and the PFS-Residential, PFS-Commercial, and PFS-Local enrollment fee paid online will increase to $21.95 per application. The price of the weekly shipment charge for PFS-Residential and per container charge for PFS-Local will increase to $23.90.

USPS Package Intercept

The USPS Package Intercept® fee will increase 4.6 percent to $15.95.

Other

Address Enhancement Service

Address Enhancement Service competitive product prices will increase between 10.0 and 14.3 percent.

Residential Delivery Indicator Application Program Interface (RDI-API) Eliminated

The Postal Service is eliminating RDI-API due to low volume.

Small Parcel Forwarding Fee

The small parcel forwarding fee, an optional service first offered in January 2019, will increase 6.1 percent to $5.25.

Nonstandard Fees

The Postal Service is implementing Nonstandard Fees for domestic retail and commercial Priority Mail Express and Priority Mail pieces, First-Class Package Service-Retail, USPS Retail Ground (including USPS Retail Ground LOR), and Parcel Select (Destination Entry, Ground, PSLW, USPS Connect Local) pieces that are operationally considered nonstandard. The nonstandard fees will consist of two components, length and cube. The length component will consist of two fees, one fee for a piece that measures more than 22 inches up to 30 inches, and another fee for a piece that measures more than 30 inches in length. The cube component will consist of a fee for a piece that measures more than 2 cubic feet (3,456 cubic inches). Cube dimensions for rectangular pieces are determined by measuring the length, width, and height in inches (rounding off each measurement to the nearest whole inch) and multiplying the length by the width by the height. For nonrectangular pieces, calculate as stated above and multiply the result by an adjustment factor of 0.785. If either calculation exceeds 3,456 cubic inches, the piece is subject to the cube dimension nonstandard fee.

A piece may be subject to both a length and a cube dimension nonstandard fee. The nonstandard fees do not apply to Flat Rate products, Regional Rate products or returns (USPS Returns, PRS).

In addition, commercial Priority Mail Express and Priority Mail, and Parcel Select (Destination Entry, Ground, PSLW) will require the Shipping Services file manifests or other approved electronic documentation include the accurate dimensions (length, width, height) of all pieces that exceed 22 inches.

* * * * *

Dimension Noncompliance Fee

The Postal Service is implementing a dimension noncompliance fee for commercial Priority Mail Express and Priority Mail, and Parcel Select (Destination Entry, Ground, PSLW, and USPS Connect Local) mailpieces. The dimension noncompliance fee will be assessed when dimensions (length, width, height) required by standard to be included in the Shipping Services file manifests or other approved electronic documentation, are omitted or are inaccurate. A mailpiece is only subject to one dimension noncompliance fee.

* * * * *

Resources

The Postal Service provides additional resources to assist customers with this price change for competitive products. These tools include price lists, downloadable price files, and Federal Register Notices, which may be found on the Postal Explorer® website at http://pe.usps.com.

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise Mailing Standards of the United States Postal Service, Domestic Mail Manual (DMM) as follows:

Mailing Standards of the United States Postal Service, Domestic Mail Manual (DMM)

* * * * *

100 Retail Mail Letters, Cards, Flats, and Parcels

* * * * *

110 Retail Mail Priority Mail Express

113 Prices and Eligibility

1.0 Prices and Fees

* * * * *

[Revise 1.0 by adding new 1.6 to read as follows:]

1.6 Nonstandard Fees

A Priority Mail Express piece that measures more than 22 inches up to 30 inches or that measures more than 30 inches in length or that measures more than 2 cubic feet (3,456 cubic inches) is subject to a nonstandard fee (see Notice 123—Price List). Cube dimensions for rectangular pieces are determined by measuring the length, width, and height in inches (rounding off see 604.7.0) each measurement to the nearest whole inch) and multiplying the length by the width by the height. For nonrectangular, pieces calculate as stated above and multiply the result by an adjustment factor of 0.785. If either calculation exceeds 3,456 cubic inches, the piece is subject to the nonstandard fee. A piece may be subject to both a length and a cube nonstandard fee.

* * * * *

120 Retail Mail Priority Mail

123 Prices and Eligibility

1.0 Prices and Fees

* * * * *

[Revise 1.0 by adding a new 1.7 to read as follows:]

1.7 Nonstandard Fees

Except for Flat Rate and Regional Rate packaging, a Priority Mail piece that measures more than 22 inches up to 30 inches in length or that measures more than 30 inches or that measures more than 2 cubic feet (3,456 cubic inches) is subject to a nonstandard fee (see Notice 123—Price List). Cube dimensions for rectangular pieces are determined by measuring the length, width, and height in inches (rounding off see 604.7.0) each measurement to the nearest whole inch) and multiplying the length by the width by the height. For nonrectangular pieces, calculate as stated above and multiply the result by an adjustment factor of 0.785. If either calculation exceeds 3,456 cubic inches, the piece is subject to the nonstandard fee. A piece may be subject to both a length and a cube nonstandard fee.

* * * * *

130 Retail Mail First-Class Mail and First-Class Package Service—Retail

133 Prices and Eligibility

1.0 Prices and Fees

* * * * *

[Revise 1.0 by adding new 1.6 to read as follows:]

1.6 Nonstandard Fees

A First-Class Package Service—Retail piece that measures more than 22 inches up to 30 inches or that measures more than 30 inches in length or that measures more than 2 cubic feet (3,456 cubic inches) is subject to a nonstandard fee (see Notice 123—Price List). Cube dimensions for rectangular pieces are determined by measuring the length, width, and height in inches (rounding off see 604.7.0) each measurement to the nearest whole inch) and multiplying the length by the width by the height. For nonrectangular pieces, calculate as stated above and multiply the result by an adjustment factor of 0.785. If either calculation exceeds 3,456 cubic inches, the piece is subject to the nonstandard fee. A piece may be subject to both a length and a cube nonstandard fee.

* * * * *

150 Retail Mail USPS Retail Ground

153 Prices and Eligibility

1.0 Prices and Fees

1.1 Price Eligibility

USPS Retail Ground prices are calculated based on the zone to which the parcel is addressed and the weight of the parcel. USPS Retail Ground prices are available as follows:

[Revise the text of item a to read as follows:]

a. Except for items mailed under 1.3, USPS Retail Ground prices are available for eligible mailable items sent to Zones 1 through 9.

[Delete item b and renumber items c and d as b and c.]

* * * * *

1.3 USPS Retail Ground—Limited Overland Routes Prices

[Revise the text of 1.3 to read as follows:]

USPS Retail Ground—LOR retail prices are only available when mailing eligible items within the state of Alaska for pieces delivered to or from the eligible intra-Alaska ZIP Codes not connected by overland routes in Exhibit 1.3. USPS Retail Ground—LOR retail prices are not available through online or commercial postage payment.

* * * * *

[Revise 1.0 by adding a new 1.5 to read as follows:]

1.5 Nonstandard Fees

A USPS Retail Ground or USPS Retail Ground—Limited Overland Routes piece that measures more than 22 inches up to 30 inches in length or that measures more than 30 inches or that measures more than 2 cubic feet (3,456 cubic inches) is subject to a nonstandard fee (see Notice 123—Price List). Cube dimensions for rectangular pieces are determined by measuring the length, width, and height in inches (rounding off see 604.7.0) each measurement to the nearest whole inch) and multiplying the length by the width by the height. For nonrectangular pieces, calculate as stated above and multiply the result by an adjustment factor of 0.785. If either calculation exceeds 3,456 cubic inches, the piece is subject to the nonstandard fee. A piece may be subject to both a length and a cube nonstandard fee.

* * * * *

200 Commercial Letters, Flats, and Parcels

201 Physical Standards

* * * * *

8.0 Additional Physical Standards by Class of Mail

* * * * *

8.5 Parcel Select

* * * * *

[Revise 8.5 by adding a new 8.5.4 to read as follows:]

8.5.4 USPS Connect Local

These standards apply to USPS Connect Local:

a. No piece may weigh more than 25 pounds.

b. USPS Connect Local pieces measuring over 108 inches in combined length and girth, but not more than 130 inches in combined length and girth, are mailable at the USPS Connect Local oversized price.

* * * * *

202 Elements on the Face of a Mailpiece

* * * * *

3.0 Placement and Content of Mail Markings

* * * * *

3.7 Parcel Select, Bound Printed Matter, Media Mail, and Library Mail Markings

3.7.1 Basic Markings

[Revise the first sentence in the introductory text of 3.7.1 to read as follows:]

The basic required marking (i.e., “Parcel Select”, “Parcel Select Lightweight”, “USPS Connect Local”, “Bound Printed Matter”, “Media Mail”, “Library Mail”) must be printed on each piece claimed at the respective price. * * *

* * * * *

3.7.2 Parcel Select Markings

* * * The following product markings are required:

* * * * *

[Add new item d to read as follows:]

d. USPS Connect Local—“USPS Connect Local”.

* * * * *

[Renumber 3.7.3 through 3.7.5 as 3.7.4 through 3.7.6 and add new 3.7.3 to read as follows:]

3.7.3 USPS Connect Local

In addition to the basic marking “USPS Connect Local” each piece of USPS Connect Local must bear the 5-digit ZIP Code of the local mailing Post Office (i.e., USPS Connect Local—12345) additional price marking. For USPS Connect Local Sunday delivery, in addition to the 5-digit ZIP Code additional price marking, the piece must include the marking “SUN” (i.e., USPS Connect Local—12345 SUN).

* * * * *

210 Commercial Mail Priority Mail Express

213 Prices and Eligibility

1.0 Prices and Fees

* * * * *

1.5 Dimensional Weight Price for Low-Density Parcels to Zones 1-9

* * * * *

[Revise 1.5 by adding a new 1.5.3 to read as follows:]

1.5.3 Dimensional Weight Pricing Dimension Standard

Shipping Services file manifests or other approved electronic documentation must include the accurate dimensions (length, width, height) of all pieces that exceed 1 cubic foot. Shipping Services file manifests or other approved electronic documentation not meeting the requirement to include accurate dimensions will be assessed a dimension noncompliance fee under 1.10.

* * * * *

[Revise 1.0 by adding new 1.9 to read as follows:]

1.9 Nonstandard Fees

A Priority Mail Express piece that measures more than 22 inches up to 30 inches or that measures more than 30 inches in length or that measures more than 2 cubic feet (3,456 cubic inches) is subject to a nonstandard fee (see Notice 123—Price List). Cube dimensions for rectangular pieces are determined by measuring the length, width, and height in inches (rounding off see 604.7.0) each measurement to the nearest whole inch) and multiplying the length by the width by the height. For nonrectangular pieces, calculate as stated above and multiply the result by an adjustment factor of 0.785. If either calculation exceeds 3,456 cubic inches, the piece is subject to the nonstandard fee. A piece may be subject to both a length and a cube nonstandard fee. Shipping Services file manifests or other approved electronic documentation must include the accurate dimensions (length, width, height) of all pieces that exceed 22 inches. Shipping Services file manifests or other approved electronic documentation not meeting the requirement to include accurate dimensions will be assessed a dimension noncompliance fee under 1.10.

* * * * *

[Revise 1.0 by adding a new 1.10 to read as follows:]

1.10 Dimension Noncompliance Fee

Priority Mail Express mailpieces required to include dimensions (length, width, height) in the Shipping Services file manifests or other approved electronic documentation under 1.5.3 or 1.9 and the dimensions are omitted or inaccurate are subject to the dimension noncompliance fee (see Notice 123—Price List). A mailpiece is only subject to one dimension noncompliance fee.

* * * * *

220 Commercial Mail Priority Mail

223 Prices and Eligibility

1.0 Prices and Fees

* * * * *

1.5 Dimensional Weight Price for Low-Density Parcels to Zones 1-9

* * * * *

[Revise 1.5 by adding a new 1.5.3 to read as follows:]

1.5.3 Dimensional Weight Pricing Dimension Standard

Shipping Services file manifests or other approved electronic documentation must include the accurate dimensions (length, width, height) of all pieces that exceed 1 cubic foot. Shipping Services file manifests or other approved electronic documentation not meeting the requirement to include accurate dimensions will be assessed a dimension noncompliance fee under 1.13.

* * * * *

[Revise 1.0 by adding a new 1.12 to read as follows:]

1.12 Nonstandard Fees

Except for Flat Rate and Regional Rate packaging and Priority Mail Return service packages, a Priority Mail piece that measures more than 22 inches up to 30 inches or that measures more than 30 inches in length or that measures more than 2 cubic feet (3,456 cubic inches) is subject to a nonstandard fee (see Notice 123—Price List). Cube dimensions for rectangular pieces are determined by measuring the length, width, and height in inches (rounding off see 604.7.0) each measurement to the nearest whole inch) and multiplying the length by the width by the height. For nonrectangular pieces, calculate as stated above and multiply the result by an adjustment factor of 0.785. If either calculation exceeds 3,456 cubic inches, the piece is subject to the nonstandard fee. A piece may be subject to both a length and a cube nonstandard fee. Shipping Services file manifests or other approved electronic documentation must include the accurate dimensions (length, width, height) of all pieces that exceed 22 inches. Shipping Services file manifests or other approved electronic documentation not meeting the requirement to include accurate dimensions will be assessed a dimension noncompliance fee under 1.13.

* * * * *

[Revise 1.0 by adding a new 1.13 to read as follows:]

1.13 Dimension Noncompliance Fee

Priority Mail mailpieces required to include dimensions (length, width, height) in the Shipping Services file manifests or other approved electronic documentation under 1.5.3 or 1.12 and the dimensions are omitted or inaccurate are subject to the dimension noncompliance fee (see Notice 123—Price List). A mailpiece is only subject to one dimension noncompliance fee.

* * * * *

250 Commercial Mail Parcel Select

253 Prices and Eligibility

1.0 Prices and Fees

1.1 Price Application

[Revise the text of 1.1 to read as follows:]

Postage is based on the price that applies to the weight increment of each addressed piece, and on the zone to which the piece is addressed, except for DDU and DSCF entered pieces and USPS Connect Local pieces. The price is charged per pound or fraction thereof; any fraction of a pound is considered a whole pound. Except for Parcel Select Lightweight, the minimum price per piece is the 1-pound price. For DDU, DSCF, and USPS Connect Local pieces, postage is based on the price that applies to the weight increment of each addressed piece. USPS Connect Local Flat Rate prices are not based on weight and zone but are charged a flat rate regardless of actual weight (up to 25 pounds) of the mailpiece and domestic destination. Parcel Select Lightweight postage is based on the price that applies to the weight increment of each addressed piece, charged per ounce or fraction thereof, with any fraction of an ounce being rounded to the next whole ounce. The price categories for Parcel Select are as follows:

a. Destination entry including destination entry network distribution center (DNDC), destination entry sectional center facility (DSCF), and destination entry delivery unit (DDU).

b. Ground.

c. Lightweight.

d. USPS Connect Local.

1.2 Parcel Select Prices

[Revise the text of 1.2 to read as follows:]

Pricing is available for all Parcel Select price categories under 1.1. For prices, see Notice 123-Price List.

1.3 Dimensional Weight Price for Low-Density Parcels to Zones 1-9

[Revise the text of 1.3 to read as follows:]

Postage for Destination Entry and Ground parcels addressed for delivery to Zones 1-9 and exceeding 1 cubic foot (1,728 cubic inches) is based on the actual weight or the dimensional weight (as calculated in 1.3.1 or 1.3.2), whichever is greater.

* * * * *

[Revise 1.3 by adding a new 1.3.3 to read as follows:]

1.3.3 Dimensional Weight Dimension Standard

Shipping Services file manifests or other approved electronic documentation must include the accurate dimensions (length, width, height) of all pieces that exceed 1 cubic foot. Shipping Services file manifests or other approved electronic documentation not meeting the requirement to include accurate dimensions will be assessed a dimension noncompliance fee under 1.9.

* * * * *

[Revise 1.0 by adding a new 1.6 and 1.7 to read as follows:]

1.6 USPS Connect Local Flat Rate Packaging

Only USPS-produced USPS Connect Local Flat Rate packaging is eligible for the USPS Connect Local Flat Rate prices and are charged a flat rate regardless of the actual weight (up to 70 pounds) of the mailpiece. Customers must only use USPS-produced USPS Connect Local Flat Rate containers at the applicable USPS Connect Local Flat Rate price. USPS-produced USPS Connect Local Flat Rate packaging is not eligible for shipping live animals.

1.7 Sunday Delivery

A USPS Connect Local mailer may request Sunday delivery where available for a fee (see Notice 123—Price List).

[Revise 1.0 by adding new 1.8 to read as follows:]

1.8 Nonstandard Fees

Except for Ground Return service, a Parcel Select Destination Entry, Ground, Parcel Select Lightweight, or USPS Connect Local, piece that measures more than 22 inches up to 30 inches or that measures more than 30 inches in length or that measures more than 2 cubic feet (3,456 cubic inches) is subject to a nonstandard fee (see Notice 123—Price List). Cube dimensions for rectangular pieces are determined by measuring the length, width, and height in inches (rounding off see 604.7.0) each measurement to the nearest whole inch) and multiplying the length by the width by the height. For nonrectangular pieces, calculate as stated above and multiply the result by an adjustment factor of 0.785. If either calculation exceeds 3,456 cubic inches, the piece is subject to the nonstandard fee. A piece may be subject to both a length and a cube nonstandard fee. Shipping Services file manifests or other approved electronic documentation must include the accurate dimensions (length, width, height) of all pieces that exceed 22 inches. Shipping Services file manifests or other approved electronic documentation not meeting the requirement to include accurate dimensions will be assessed a dimension noncompliance fee under 1.9.

* * * * *

[Revise 1.0 by adding a new 1.9 to read as follows:]

1.9 Dimension Noncompliance Fee

Parcel Select mailpieces required to include dimensions (length, width, height) in the Shipping Services file manifests or other approved electronic documentation under 1.3.3 or 1.8 and the dimensions are omitted or inaccurate are subject to the dimension noncompliance fee (see Notice 123—Price List). A mailpiece is only subject to one dimension noncompliance fee.

* * * * *

3.0 Basic Eligibility Standards for Parcel Select Parcels

3.1 Description of Service

[Revise the text of 3.1 to read as follows:]

Parcel Select is a Shipping Services ground product. USPS Local Connect is a price category of Parcel Select with an expected same-day or next day delivery service. The USPS does not guarantee the delivery of Parcel Select mailpieces within a specified time. Certain Parcel Select mailpieces might receive deferred service.

* * * * *

[Revise the heading of 4.0 to read as follows:]

4.0 Price Eligibility for Parcel Select and Parcel Select Lightweight

4.1 Destination Entry Price Eligibility

4.1.1 Definition

* * * For this standard, the following destination facility definitions apply:

* * * * *

[Revise the first sentence of item b to read as follows:]

b. A destination sectional center facility (DSCF) includes all facilities in L005 or L051 for DSCF machinable parcels. * * *

* * * * *

4.1.4 DSCF and DDU Prices

For DSCF and DDU prices, pieces must meet the applicable standards in 3.0 and the following criteria:

[Revise the first sentence of item a to read as follows:]

a. For DSCF prices, be part of a Parcel Select destination entry mailing of parcels deposited at an SCF in L005, L051, or a USPS-designated facility. * * *

* * * * *

4.3 Parcel Select Lightweight

* * * * *

4.3.3 Prices for Machinable Parcels

The following prices apply to Parcel Select Lightweight machinable parcels:

* * * * *

[Renumber items b and c as c and d and add new item b to read as follows:]

b. SCF Price; the SCF price applies to machinable parcels that are dropshipped and presented to a DSCF:

1. In an SCF sack containing at least 10 pounds of parcels.

2. On an SCF pallet, according to 705.8.10.

* * * * *

[Renumber 4.4 and 4.5 as 4.5 and 4.6 and add new 4.4 to read as follows:]

4.4 USPS Connect Local

USPS Connect Local mailings are subject to the following criteria:

a. Participation in the USPS Connect Local program requires agreement to program terms. Customers must speak with a USPS Representative for details.

b. No minimum volume requirement.

c. Postage must be paid under 254.1.1.3.

d. Pieces are subject to specific marking requirements under 202.3.7.2 and 202.3.7.3.

e. Mailings must be addressed and entered at the local 5-digit Post Office by the designated critical entry time for same day delivery within the local 5-digit Post Office service area.

f. Only the following extra services are available with USPS Connect Local and must be purchased through the Click-N-Ship application:

1. Insurance.

2. Signature Confirmation.

3. Signature Confirmation Restricted Delivery.

g. Sunday delivery where available for a fee (see 1.8).

* * * * *

254 Postage Payment and Documentation

1.0 Basic Standards for Postage Payment

* * * * *

[Revise 1.0 by adding a new 1.1.3 to read as follows:]

1.1.3 USPS Connect Local

USPS Connect Local mailings must be paid with USPS Click-N-Ship.

* * * * *

255 Mail Preparation

1.0 General Information for Mail Preparation

[Revise the text of 1.1 by renumbering the current text as 1.1.1 and adding new 1.1.2 to read as follows:]

1.1 Basic Standards

1.1.1 General

All mailings at Parcel Select prices are subject to these general standards:

a. Each mailing must meet the applicable standards in 201, 202, 253, 255, and 256.

b. All pieces that are palletized must be prepared under 705.8.0.

1.1.2 USPS Connect Local

There are no sorting requirements for USPS Connect Local pieces.

* * * * *

1.4 Terms for Presort Level

Terms used for presort levels are defined as follows:

* * * * *

[Renumber items c and d as d and e and add new item c to read as follows:]

c. SCF: The separation includes pieces for two or more 3-digit areas served by the same sectional center facility (SCF) (see L002 and L051).

* * * * *

4.0 Preparing Destination Entry Parcel Select

* * * * *

4.2 Preparing Destination SCF (DSCF) Parcel Select

4.2.1 Definition

[Revise the first sentence of 4.2.1 to read as follows:]

A destination sectional center facility (DSCF) includes all facilities in L005 for 5-digit/scheme sacks, or L051 for SCF sorted machinable parcel sacks. * * *

4.2.2 Basic Standards

Pieces must meet the applicable standards in 4.0 and the following criteria:

* * * * *

[Revise the text of item b to read as follows:]

b. DSCF pieces must be for the same SCF area under L005 for 5-digit/scheme sacks or L051 for SCF sorted machinable parcel sacks.

[Revise the first and second sentence of item c to read as follows:]

c. Sorted to optional 5-digit scheme destinations under L606, Column B, 5-digit destinations, or SCF for machinable parcels under L051, either in sacks or directly on pallets or in pallet boxes. Mailers must enter the pieces at the designated SCF, under L605, that serves the 5-digit ZIP Code destinations of the pieces or designated SCF for machinable parcels under L051. * * *

* * * * *

4.2.3 Sacking and Labeling

Sacking requirements for DSCF entry:

[Revise the text of item a to read as follows:]

a. Only 5-digit scheme, 5-digit, and SCF, sacks are permitted.

* * * * *

[Renumber items e and f as g and h and add new items e and f to read as follows:]

e. Each SCF sack must contain a minimum of seven pieces. One overflow sack per SCF is permitted (no piece minimum).

f. SCF sack labeling: Line 1, use L051; for Line 2, “PSVC PARCELS SCF.”

* * * * *

[Revise the text of renumbered item h to read as follows:]

h. See 705.8.0 for option to place 5-digit scheme and 5-digit DSCF sacks, SCF sacks, and 3-digit nonmachinable sacks on an SCF pallet.

* * * * *

5.0 Preparing Machinable Parcels

* * * * *

5.3.1 Sack Preparation

Sack size, preparation sequence, and Line 1 labeling:

* * * * *

[Renumber items c through e as d through f and add new item c to read as follows:]

c. SCF: Optional (minimum of 10 pieces or 20 pounds); for Line 1, use L051.

* * * * *

5.3.2 Sack Line 2

Line 2:

* * * * *

[Renumber items c through e as d through f and add new item c to read as follows:]

c. SCF: “PSVC MACH SCF.”

* * * * *

6.0 Preparing Parcel Select Lightweight

* * * * *

6.2 Preparing Machinable Parcels

6.2.1 Sacking

[Revise the text of 6.2.1 by adding a new second sentence to read as follows:]

* * * Mailers may prepare SCF sacks only for parcels that will be dropshipped to a DSCF. * * *

6.2.2 Sacking and Labeling

* * * * *

[Renumber items b through e as c through f and add new item b to read as follows:]

b. SCF, allowed only for machinable parcels deposited at a DSCF to claim SCF price; 10-pound minimum; labeling:

1. For Line 1, L051.

2. For Line 2, “PSLW MACH SCF.”

* * * * *

[Add a new 7.0 to read as follows:]

7.0 Preparing USPS Connect Local

7.1 USPS Connect Local Flat Rate Packaging Provided by the USPS

USPS Connect Local Flat Rate packaging provided by the USPS must be used only for USPS Connect Local.

7.2 Sealing USPS Connect Local Flat Rate Packaging

When sealing a USPS Connect Local Flat Rate Bag or Box, the container flaps must be able to close within the normal folds. Tape may be applied to the flaps and seams to reinforce the container; provided the design of the container is not enlarged by opening the sides and the container is not reconstructed in any way.

* * * * *

256 Enter and Deposit

1.0 Verification

* * * * *

1.2 Office of Mailing

[Revise the text of 1.2 by renumbering the current text as 1.2.1 and adding a new 1.2.2 to read as follows:]

1.2.1 Parcel Select

Parcel Select must be mailed at the Post Office from which the zone-based postage was computed, except under 1.3 and 1.4.

1.2.2 USPS Connect Local

USPS Connect Local pieces must be mailed at the local Post Office designated by the 5-digit ZIP Code destination.

* * * * *

2.0 Deposit

* * * * *

2.2 Containers

DNDC mailings (if not bedloaded), DDU mailings (if not bedloaded), and all DSCF mailings must be prepared as follows:

* * * * *

[Revise the text of item d to read as follows:]

d. For DSCF, 5-digit scheme, 5-digit, SCF, and 3-digit sacks may be bedloaded or be placed on SCF pallets that are labeled and otherwise prepared under 705.8.0.

* * * * *

500 Additional Services

503 Extra Services

1.0 Basic Standards for All Extra Services

* * * * *

1.4 Eligibility for Extra Services

* * * * *

1.4.1 Eligibility—Domestic Mail

* * * * *

Exhibit 1.4.1 Eligibility—Domestic Mail

* * * * *

Extra service | Eligible mail | Additional combined extra services

* * * * *

Insurance

Insurance Restricted Delivery

[Under the “Insurance” line item add “USPS Connect Local” under the “Eligible Mail” column with a footnote “11” notation to read as follows:]

USPS Connect Local ¹¹

* * * * *

Signature Confirmation

[Under the “Signature Confirmation” line item add “USPS Connect Local” under the “Eligible Mail” column.]

* * * * *

Signature Confirmation Restricted Delivery

[Under the “Signature Confirmation Restricted Delivery” line item add “USPS Connect Local” under the “Eligible Mail” column.]

* * * * *

[Add new footnote “11” to read as follows:]

¹¹ Insurance Restricted Delivery not available for USPS Connect Local items.

* * * * *

505 Return Services

* * * * *

4.0 Parcel Return Service

4.1 Prices and Fees

* * * * *

[Revise 4.1 by adding a new 4.1.4 to read as follows:]

4.1.4 Nonstandard Fee

Parcel Return Service parcels are not subject to a nonstandard fee.

* * * * *

507 Mailer Services

* * * * *

7.0 Pickup on Demand Service

7.1 Postage and Fees

* * * * *

7.1.2 Fee

[Revise the last sentence of 7.1.2 to read as follows:]

* * * The Pickup on Demand fee must be paid online at www.usps.com or through USPS Click-N-Ship for USPS Connect Local.

* * * * *

7.2 Basic Standards

7.2.1 Availability

* * * Incidental amounts of other postage-affixed, full-price mail also may be collected when Pickup on Demand service is provided for:

* * * * *

[Revise the text of 7.2.1 by renumbering items f through m as g through n and adding a new item f to read as follows:]

f. USPS Connect Local

* * * * *

7.2.3 Extra Services

[Revise the text of 7.2.3 to read as follows:]

As applicable, Certified Mail, USPS Tracking, Adult Signature (not allowed for certain items under 503.8.0), insurance, Signature Confirmation, and return receipt, are the only extra postal services that may be used with pieces that are picked up.

* * * * *

7.2.6 Requesting Pickup on Demand Service

[Revise the text of 7.2.6 to read as follows:]

A customer can request Pickup on Demand service and schedule a pickup at www.usps.com or through USPS Click-N-Ship for USPS Connect Local. Pickup on Demand service allows a customer to have pickup on a specific date within a two-hour timeframe. Customers can schedule Pickup on Demand service up to one year in advance or for USPS Connect Local up to three days in advance. A same day request for pickup must be made before 5:00 a.m. local time on the requested day.

* * * * *

7.3 Scheduled Service

* * * * *

7.3.4 Customer Changes

[Revise the last sentence of 7.3.4 to read as follows:]

* * * Customers should make notifications of change to their requests through the www.usps.com Pickup on Demand application or through USPS Click-N-Ship for USPS Connect Local.

* * * * *

11.0 USPS Tracking Plus Service

[Revise the text of 11.0 to read as follows:]

11.1 Description

USPS Tracking Plus service allows customers to request the Postal Service retain scan data, or scan and signature data for their packages, beyond the Postal Service's standard data retention period, for up to 10 years for a fee (see Notice 123-Price List). Customers may request USPS Tracking Plus service online at usps.com or through a Shipping Services File.

11.2 Scan Data Retention

USPS Tracking Plus service is available for scan data retention on mailpieces shipped by the following products:

a. Priority Mail Express

b. Priority Mail

c. First-Class Mail (Letters and Flats) with a purchased trackable extra service

d. First-Class Package Service

e. Parcel Select

f. Library Mail and Media Mail

g. Bound Printed Matter

h. USPS Marketing Mail and Nonprofit USPS Marketing Mail parcels with purchased USPS Tracking and Nonprofit USPS Marketing Mail parcels with a trackable extra service

11.3 Scan and Signature Data Retention

USPS Tracking Plus service is available for Scan and Signature Retention on applicable products listed in 11.2. Except for Priority Mail Express, the customer must have purchased an underlying signature service (e.g., Signature Confirmation service, Adult Signature service).

* * * * *

509 Other Services

1.0 Address Information System Services

* * * * *

1.3 Address Matching System Application Program Interface

* * * The following services require payment of separate additional fees:

* * * * *

[Delete items c and d.]

* * * * *

600 Basic Standards for All Mailing Services

* * * * *

604 Postage Payment Methods and Refunds

* * * * *

9.0 Exchanges and Refunds

* * * * *

9.2 Postage and Fee Refunds

* * * * *

9.2.1 General Standards

* * * * *

Exhibit 9.2.1 Postage and Fees Refunds

[Revise the introductory text in Exhibit 9.2.1 to read as follows:]

Except for USPS Connect Local under 9.2.5c, customers must apply for a refund within the time limits in the chart below.

* * * * *

9.2.3 Full Refund

A full refund (100%) may be made when:

* * * * *

[Revise the text of 9.2.3 by adding a new item n to read as follows:]

n. For USPS Connect Local, the USPS refunds the Sunday premium fee for an item not delivered or for an item which delivery was not attempted, on Sunday.

* * * * *

9.2.5 Applying for Refund

A customer may apply for refunds under 9.2, as follows:

* * * * *

[Revise 9.2.5 by adding a new item c to read as follows:]

c. Automated: A refund for the USPS Connect Local Sunday delivery fee under 9.2.3n is applied automatically through USPS Click-N-Ship.

* * * * *

700 Special Standards

* * * * *

705 Advanced Preparation and Special Postage Payment Systems

* * * * *

8.0 Preparing Pallets

* * * * *

8.5 General Preparation

* * * * *

8.5.3 Minimum Load

The following minimum load standards apply to mail prepared on pallets:

* * * * *

[Revise the fourth sentence of item b to read as follows:]

b. * * * There is no minimum weight requirement for an SCF pallet containing 5-digit scheme, 5-digit or SCF sacks prepared for the DSCF price. * * *

* * * * *

8.10.7 Machinable Parcels—USPS Marketing Mail, Including Marketing Parcels 6 Ounces or More, and Parcel Select Lightweight

* * * Label pallets under applicable standards in 8.6 and according to Line 1 and Line 2 information below:

* * * * *

[Renumber items c through f as items d through g and add new item c to read as follows:]

c. SCF, optional. Allowed only for mail deposited at a DSCF to claim SCF price; labeling:

1. For Line 1, L051.

2. For Line 2, “PSLW MACH SCF.”

* * * * *

8.18 Parcel Select DSCF Prices—Parcels on Pallets

8.18.1 Basic Preparation, Parcels on Pallets

Unless prepared under 8.18.2, or in sacks, mail must be prepared for the DSCF price as follows:

[Revise the first and third sentence of item a to read as follows:]

General. Parcels for each SCF area must be sorted to 5-digit scheme, 5-digit, SCF (machinable parcels only), or 3-digit (nonmachinable) destinations on pallets. * * * * * * Except when prepared under 8.18.2, each 5-digit scheme, 5-digit, SCF, and 3-digit pallet must meet a minimum volume requirement under one of the criteria in 8.18.1. * * *

[Revise the text of item b to read as follows:]

b. Minimum volume. The minimum volume per 5-digit scheme, 5-digit, SCF, and 3-digit pallet can be met in one of the following ways:

1. Pieces may be placed on 5-digit scheme, 5-digit, SCF, and 3-digit pallets, each containing at least 50 pieces and 250 pounds.

2. Pieces may be placed on 5-digit scheme, 5-digit, SCF, and 3-digit pallets, each having a minimum height of 36 inches of mail (excluding the height of the pallet) (see 8.5.4).

[Revise the text of items c, c1, and c2, to read as follows:]

c. Overflow. After filling a pallet(s) to a 5-digit scheme, 5-digit, SCF, or 3-digit destination, any remaining pieces that do not meet the minimum pallet requirements may be prepared in one or both of the following ways:

1. Placed in 5-digit scheme, 5-digit, SCF, or 3-digit overflow sacks (no minimum number of pieces per sack) that are labeled in accordance with the 5-digit scheme, 5-digit, SCF, or 3-digit sacking requirements for the DSCF price in 255.4.2. Overflow pieces sacked in this manner are eligible for the DSCF prices.

2. Placed on a 5-digit scheme, 5-digit, SCF, or 3-digit pallet labeled under 8.18.1 that does not meet the minimums for the DSCF price. Overflow pieces palletized in this manner are not eligible for the DSCF prices but are eligible for the DNDC prices.

* * * * *

[Renumber items f and g as items g and h and add new item f to read as follows:]

f. SCF. Pallet labeling:

1. Line 1: Use L051.

2. Line 2: “PSVC PARCELS SCF.”

* * * * *

8.18.2 Alternate Preparation, Parcels on Pallets

DSCF price mailings not prepared under 8.18.1 may be prepared as follows:

[Revise the first sentence of item a to read as follows:]

a. General. All DSCF price mail in the mailing must be sorted to 5-digit scheme, 5-digit, SCF (machinable parcels only), or 3-digit (nonmachinable) destinations under 8.18.2 (i.e., mail prepared under 8.18.1 and mail sacked under 255.4.2 must not be included in a mailing prepared under 8.18.2). * * *

[Revise the text of item b to read as follows:]

b. Minimum volume. To qualify for the DSCF price, no pallet may contain fewer than 35 pieces and 200 pounds, and for the entire mailing the average number of DSCF price pieces per 5-digit scheme, 5-digit, SCF, or 3-digit destination must be at least 50.

* * * * *

[Revise the text of items c, c1, and c2, to read as follows:]

c. Overflow. After filling pallets to a 5-digit scheme, 5-digit, SCF, or 3-digit destination, any remaining pieces that do not meet the minimum pallet requirements may be prepared in one or both of the following ways:

1. Placed in 5-digit scheme, 5-digit, SCF, or 3-digit overflow sacks (no minimum number of pieces per sack) that are labeled in accordance with the DSCF sacking requirements in 255.4.2. Overflow pieces sacked in this manner are eligible for the DSCF prices.

2. Placed on a 5-digit scheme, 5-digit, SCF, or 3-digit pallet labeled under 8.18.2 that does not meet the minimums for the DSCF price. Overflow pieces palletized in this manner are not eligible for the DSCF prices but are eligible for the DNDC prices.

* * * * *

[Renumber items f and g as items g and h and add new item f to read as follows:]

f. SCF. Pallet labeling:

1. Line 1: Use L051.

2. Line 2: “PSVC PARCELS SCF.”

* * * * *

[Revise the first and fourth sentences of renumbered item h to read a follows:]

h. Documentation. A list of each 5-digit scheme, 5-digit, SCF, and 3-digit pallet in the mailing that qualifies for the DSCF price must be submitted. * * * * * * For each pallet, the listing must show: The pallet identification number, the applicable 5-digit scheme, 5-digit, SCF, or 3-digit destination of the pallet, the total weight of pieces on the pallet, the total number of pieces on the pallet, and the running total of pieces (i.e., the number equal to the number of pieces for that pallet plus the sum of the pieces on all pallets listed before it). * * *

* * * * *

Index

* * * * *

U

* * * * *

[Add “USPS Connect Local, 253” alphabetically under “U”.]

* * * * *

Notice 123 (Price List)

[Revise competitive prices as applicable.]

* * * * *

We will publish an appropriate amendment to 39 CFR part 111 to reflect these changes.

Joshua J. Hofer,
Attorney, Ethics & Legal Compliance.

[FR Doc. 2021-25059 Filed 11-17-21; 8:45 am]

BILLING CODE P